POSTAL RATE COMMISSION

Plant Tours

AGENCY: Postal Rate Commission.

ACTION: Notice of Commission tours.

SUMMARY: A Postal Rate Commissioner and several advisory staff members will tour postal and mailers' facilities in February and March. The purpose of the tours is to observe printing and mailing operations.

DATES: 1. February 13, 2003: Dulles, Virginia postal facility (anticipated for staff only).

2. March 3, 2003: Postal facility and Quebecor World, Inc.

3. March 4, 2003: Postal facility and R.R. Donnelley Logistics.

FOR FURTHER INFORMATION CONTACT: Stephen L. Sharfman, General Counsel, Postal Rate Commission, 200-789-6818.

Steven W. Williams,
Secretary.

[FR Doc. 03-3452 Filed 2-11-03; 8:45 am]

BILLING CODE 7710-FW-M